DEPARTMENT OF COMMERCE

National Oceanic and Atmospheric Administration

RIN 0648-XG031

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet March 8-14, 2018. The Pacific Council meeting will begin on Friday, March 9, 2018 at 9 a.m. Pacific Standard Time (PST), reconvening at 8 a.m. each day through Wednesday, March 14, 2018. All meetings are open to the public, except a closed session will be held from 8 a.m. to 9 a.m., Friday, March 9 to address litigation and personnel matters. The Pacific Council will meet as late as necessary each day to complete its scheduled business.

ADDRESSES: Meetings of the Pacific Council and its advisory entities will be held at the Doubletree by Hilton Sonoma Wine Country, One Doubletree Drive, Rohnert Park, CA; telephone: (707) 584-5466.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The March 9-14, 2018 meeting of the Pacific Council will be streamed live on the internet. The broadcasts begin initially at 9 a.m. PST Friday, March 9, 2018 and continue at 8 a.m. daily through Wednesday, March 14, 2018. Broadcasts end daily at 5 p.m. PST or when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the November Webinar ID, 530-089-227, and your email address. You can attend the webinar online using a computer, tablet, or smart phone, using the GoToMeeting application. It is recommended that you use a computer headset to listen to the meeting, but you may use your telephone for the audio-only portion of the meeting. The audio portion may be attended using a telephone by dialing the toll number 1-562-247-8321 (not a toll-free number), audio access code 240-052-611, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance March 2018 briefing materials and posted on the Pacific Council website at www.pcouncil.org no later than February 16, 2018.

A. Call to Order

1. Opening Remarks

2. Roll Call

3. Executive Director's Report

4. Approve Agenda

B. Open Comment Period

1. Comments on Non-Agenda Items

C. Administrative Matters

1. Council Coordination Committee (CCC) Update

2. Marine Planning Update

3. National Marine Sanctuary Coordination Report

4. Legislative Matters

5. Approval of Council Meeting Record

6. Membership Appointments and Council Operating Procedures

7. Future Council Meeting Agenda and Workload Planning

D. Habitat

1. Current Habitat Issues

E. Salmon Management

1. National Marine Fisheries Service Report

2. Review of 2017 Fisheries and Summary of 2018 Stock Forecasts

3. Identification of Management Objectives and Preliminary Definition of 2018 Salmon Management Alternatives

4. Recommendations for 2018 Management Alternative Analysis

5. Further Council Direction for 2018 Management Alternatives

6. Adoption of 2018 Management Alternatives for Public Review

7. Appoint Salmon Hearings Officers

F. Ecosystem

1. California Current Ecosystem and Integrated Ecosystem Assessment Report and Science Review Topics

2. Fishery Ecosystem Plan Climate and Communities Initiative Update

3. Sablefish Ecosystem Indicators: Management Strategy Evaluation

G. Pacific Halibut Management

1. Annual International Pacific Halibut Commission Meeting Report

2. Incidental Catch Recommendations: Options for the Salmon Troll and Final Recommendations for Fixed Gear Sablefish Fisheries—Final Action

H. Groundfish Management

1. National Marine Fisheries Service Report

2. Trawl Catch Shares—Gear Switching and Trawl Sablefish Area Management

3. Implementation of the 2018 Pacific Whiting Fishery Under the U.S./Canada Agreement

4. Initial Stock Assessment Plan and Terms of Reference

5. Endangered Species Act Biological Opinion on the Take of Listed Salmon in Groundfish Fisheries

6. Trawl Catch Share—Final Range of Alternatives (ROA) for Follow-On Actions

7. Update on 2019-2020 Harvest Specifications and Management Measures

8. Final Inseason Management, Including Shorebased Carryover and Exempted Fishing Permits (EFPs)—Final Action

I. Highly Migratory Species Management

1. National Marine Fisheries Service Report

2. Deep-Set Buoy Gear Authorization—Final Range of Alternatives/Preliminary Preferred Alternative

3. Proposed Deep-Set Buoy Gear Exempted Fishing Permits

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Friday, February 16, 2018.

Schedule of Ancillary Meetings

Day 1—Thursday, March 8, 2018

Ecosystem Advisory Subpanel—8 a.m.

Ecosystem Workgroup—8 a.m.

Habitat Committee—8 a.m.

Scientific and Statistical Committee—8 a.m.

Legislative Committee—1 p.m.

Tribal Policy Group—Ad Hoc

Tribal and Washington Technical Group—Ad Hoc

Day 2—Friday, March 9, 2018

California State Delegation—7 a.m.

Oregon State Delegation—7 a.m.

Washington State Delegation—7 a.m.

Ecosystem Advisory Subpanel—8 a.m.

Ecosystem Workgroup—8 a.m.

Groundfish Management Team—8 a.m.

Salmon Advisory Subpanel—8 a.m.

Salmon Technical Team—8 a.m.

Scientific and Statistical Committee—8 a.m.

Ad Hoc Community Advisory Board (Offsite: Oxford Suites)—1 p.m.

Enforcement Consultants—3 p.m.

Tribal Policy Group—Ad Hoc

Tribal and Washington Technical Group—Ad Hoc

Day 3—Saturday, March 10, 2018

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Tribal Policy Group—Ad Hoc

Tribal and Washington Technical Group—Ad Hoc

Enforcement Consultants—Ad Hoc

EFH/RCA Informational Meeting—7 p.m.

Day 4—Sunday, March 11, 2018

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Tribal Policy Group—Ad Hoc

Tribal and Washington Technical Group—Ad Hoc

Enforcement Consultants—Ad Hoc

Day 5—Monday, March 12, 2018

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Tribal Policy Group—Ad Hoc

Tribal and Washington Technical Group—Ad Hoc

Enforcement Consultants—Ad Hoc

Day 6—Tuesday, March 13, 2018

California State Delegation—7a.m.

Oregon State Delegation—7a.m.

Washington State Delegation—7 a.m.

Highly Migratory Species Advisory Subpanel—8 a.m.

Highly Migratory Species Management Team—8 a.m.

Salmon Advisory Subpanel—8 a.m.

Salmon Technical Team—8 a.m.

Tribal Policy Group—Ad Hoc

Tribal and Washington Technical Group—Ad Hoc

Enforcement Consultants—Ad Hoc

Day 7—Wednesday, March 14, 2018

California State Delegation—7 a.m.

Oregon State Delegation—7 a.m.

Washington State Delegation—7 a.m.

Salmon Technical Team—8 a.m.

Tribal Policy Group—Ad Hoc

Tribal and Washington Technical Group—Ad Hoc

Although non-emergency issues not contained in this agenda may come before the Pacific Council for discussion, those issues may not be the subject of formal Council action during these meetings. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least 10 business days prior to the meeting date.

Dated: February 14, 2018.
Tracey L. Thompson,
Acting Deputy Director, Office of Sustainable Fisheries, National Marine Fisheries Service.

[FR Doc. 2018-03436 Filed 2-20-18; 8:45 am]

BILLING CODE 3510-22-P